DEPARTMENT OF JUSTICE

Antitrust Division

Notice Pursuant to the National Cooperative Research and Production Act of 1993—Automotive Glass Replacement Safety Standards Council

Notice is hereby given that, on September 14, 2004, pursuant to section 6(a) of the National Cooperative Research and Production Act of 1993, 15 U.S.C. 4301 et seq. (“the Act”), Automotive Glass Replacement Safety Standards Council (“AGRSS”) has filed notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Automotive Glass Replacement Safety Standards Council, Glen Ellyn, IL. The nature and scope of AGRSS' standards development activities are: To develop, publish and maintain nationally recognized automotive glass replacement safety and related standards. At a minimum, these standards will address procedures, education and product performance for the purpose of enhancing public safety.

Dorothy B. Fountain,
Deputy Director of Operations Antitrust Division.

[FR Doc. 04-24564 Filed 11-02-04; 8:45 am]

BILLING CODE 4410-11-M